DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Practitioner Records Maintenance, Disclosure, and Discipline Before the United States Patent and Trademark Office (USPTO).

Form Number(s): None.

Agency Approval Number: 0651-0017.

Type of Request: Reinstatement, with change, of a previously approved collection for which approval has expired.

Burden: 8,334 hours annually.

Number of Respondents: 582 responses per year.

Avg. Hours Per Response: The USPTO estimates that practitioners spend 26 hours per year keeping and maintaining records concerning their client's cases. The USPTO estimates that practitioners seeking reinstatement to practice before the agency will spend 60 hours per year keeping and maintaining records showing their compliance with the suspension or exclusion orders. It is estimated that it takes 2 hours to report a complaint/violation and that it takes 5 minutes (0.08 hours) to 4 hours, depending upon the nature of the complaint/violation, to respond and provide other information, as necessary. The estimated times will vary, depending upon the request. These estimates include the time to gather the necessary information; to prepare the complaint/violation, response or request; to maintain records; and to submit the requests or responses to the USPTO.

Needs and Uses: This information is required by 35 U.S.C. §§ 2(b)(2)(D) and 32, and administered by the USPTO through the USPTO Code of Professional Responsibility (37 CFR 10.20 to 10.112) and the Investigations and Disciplinary Proceedings rules (37 CFR 10.130 to 10.170). This information is used by the Director of the Office of Enrollment and Discipline (OED) to investigate and, where appropriate, prosecute for violations of the USPTO Code of Professional Responsibility. Registered practitioners are mandated to maintain proper documentation so that they can fully cooperate with an investigation in the event of a report of an alleged violation. The USPTO is submitting this collection in support of a proposed rulemaking, “Changes to Representation of Others Before the United States Patent and Trademark Office” (RIN 0651-AB55), which expands existing record keeping requirements. Under this proposed rulemaking, practitioners must keep copies of recordings of advertisements or communications disseminated in print or electronic media for two years after the last use of the advertisement, along with a record of when and where the advertisement was used. Additionally, practitioners who have been excluded or suspended from practice before the USPTO must keep and maintain records of their steps to comply with the suspension or exclusion order. These records serve as the practitioner's proof of compliance with the order.

Affected Public: Individuals or households; business or other for-profit; the Federal Government; and State, Local or Tribal Governments.

Frequency: On occasion.

Respondent's Obligation: Mandatory.

OMB Desk Officer: David Rostker, (202) 395-3897.

Copies of the above information collection proposal can be obtained by calling or writing Susan K. Brown, Records Officer, Office of the Chief Information Officer, Office of Data Architecture and Services, (703) 308-7400, U.S. Patent and Trademark Office, P.O. Box 1450, Alexandria, Virginia 22313, Attn: CPK 3 Suite 310, or by e-mail at susan.brown@uspto.gov.

Written comments and recommendations for the proposed information collection should be sent on or before April 23, 2004 to David Rostker, OMB Desk Officer, Room 10202, New Executive Office Building, Washington, DC 20503.

Dated: March 18, 2004.
Susan K. Brown,
Records Officer, USPTO, Office of Data Architecture and Services, Data Administration Division.

[FR Doc. 04-6526 Filed 3-23-04; 8:45 am]

BILLING CODE 3510-16-P